DEPARTMENT OF AGRICULTURE

Foreign Agricultural Service

Notice of a Request for Extension of a Currently Approved Information Collection

AGENCY: Foreign Agricultural Service, USDA.

ACTION: Notice and request for comment.

SUMMARY: In accordance with the Paperwork Reduction Act, this notice announces the Foreign Agricultural Service's intention to request an extension for a currently approved information collection in support of the regulations governing the entry of raw cane sugar under the tariff-rate quota (TRQ) into the United States.

DATES: Comments on this notice must be received by no later than April 9, 2010 to be assured of consideration.

Additional Information and Comments: Contact William Janis, International Economist, Import Policies and Export Reporting Division, Foreign Agricultural Service, U.S. Department of Agriculture, AgStop 1021, 1250 Maryland Avenue, SW., Washington, DC 20250-1021; or by telephone (202) 720-2194; by fax to (202) 720-0876; or by e-mail William.Janis@fas.usda.gov.

SUPPLEMENTARY INFORMATION: Title: Certificate of Quota Eligibility.

OMB Number: 0551-0014.

Expiration Date of Approval: May 31, 2010.

Type of Request: Extension of a currently approved information collection.

Abstract: The provisions of paragraph (b)(iv) of the Additional U.S. note 5 to Chapter 17 of the Harmonized Tariff Schedule of the United States (HTS), established by Presidential Proclamation 6763 of December 1994, authorizes the Secretary of Agriculture to establish for each fiscal year the quantity of sugars and syrups that may be entered at the lower tariff rates of TRQs. The TRQs cover sugars and syrups described in HTS subheadings 1701.11, 1701.12, 1701.91, 1701.99, 1702.90 and 2106.90. This authority was proclaimed by the President to implement the results of the Uruguay Round of multilateral trade negotiations as reflected in the provisions of Schedule XX (United States), annexed to the Agreement establishing the World Trade Organization. The terms under which Certificates for Quota Eligibility (CQEs) will be issued to foreign countries that have been allocated a share of the TRQ are set forth in 15 CFR Part 2011, Allocation of Tariff-Rate Quota on Imported Sugars, Syrups, and Molasses, Subpart A—Certificates of Quota. The authority for issuing CQEs is Additional U.S. Note 5(b)(iv) to chapter 17 of the HTS. The regulation, promulgated by the United States Trade Representative, provides for the issuance of CQEs by the Secretary of Agriculture and in general prohibits sugar subject to the TRQ from being imported into the United States or withdrawn from a warehouse for consumption at the in-quota duty rates unless such sugar is accompanied by a CQE.

CQEs are issued to foreign countries by the Director of the Import Policies and Export Reporting Division, Foreign Agriculture Service, or his or her designee. The issuance of CQEs is in such amounts and at such times as the Director determines are appropriate to enable the foreign country to fill its quota allocation for such quota period in a reasonable manner, taking into account harvesting periods, U.S. import requirements, and other relevant factors. The information required to be collected on the CQE is used to monitor and control the imports of raw cane sugar. Proper completion of the CQE is mandatory for those foreign governments that are eligible and elect to export raw cane sugar to the United States under the TRQ.

Estimate of burden: The public reporting burden for the collection directly varies with the number of CQEs issued.

Respondents: Foreign governments.

Estimated number of respondents: 40 (i.e., number of countries receiving a TRQ allocation).

Estimated number of responses per respondent: 30 per fiscal year.

Estimated total number of forms: 1,200.

Estimated burden hours per response: 0.1667 hour (10 minutes).

Estimated total annual burden hours for respondents: 200 hours.

Requests for Comments: Send comments regarding (a) Whether the information collection is necessary for the proper performance of the functions of the agency, including whether the information will have practical utility; (b) the accuracy of the agency's estimate of the burden of the collection of information including validity of the methodology and assumption used; (c) ways to enhance the quality, utility and clarity of the information to be collected; and (d) ways to minimize the burden of the collection of information on those who are to respond, including through the use of automated, electronic, mechanical, or other technological collection techniques or other forms of information technology. Copies of this information collection may be obtained from Tamoria Thompson-Hall, the Agency Information Collection Coordinator, at (202) 690-1690.

Comments may be sent to William Janis, International Economist, Import Policies and Export Reporting Division, Foreign Agricultural Service, U.S. Department of Agriculture, AgStop 1021, 1250 Maryland Avenue, SW., Washington, DC 20024-1021; or by telephone (202) 720-2194; or by e-mail: William.Janis@fas.usda.gov. All comments received will be available for public inspection in Room PB435-B at the above address. Persons with disabilities who require an alternative means of communication for information (Braille, large print, audiotape, etc.) should contact USDA's target center at (202) 720-2600 (voice and TDD). All responses to this notice will be summarized and included in the request for OMB approval. All comments also will become a matter of public record. FAS is committed to complying with the Government Paperwork Elimination Act which requires Government agencies, to the maximum extent feasible, to provide the public the option of electronically submitting information collection. CQEs permit exporters to ship raw cane sugar to the United States at the U.S. price, which is ordinarily significantly higher than the world price for raw cane sugar. Therefore, in contrast to most information collection documents, CQEs have a monetary value equivalent to the substantial benefits to exporters who can fill their raw cane sugar allocations under the TRQ. CQEs have always been carefully handled as secure documents, and issued only to foreign government-approved certifying authorities. The Department does not plan to make CQEs available electronically in order to prevent a potential proliferation of invalid CQEs, which could undermine the integrity of the TRQ system.

Signed at Washington, DC, on February 1, 2010.
John D. Brewer,
Administrator, Foreign Agricultural Service.

[FR Doc. 2010-2695 Filed 2-5-10; 8:45 am]

BILLING CODE 3410-10-P